DEPARTMENT OF THE INTERIOR

Bureau of Land Management

[CO-910-0777-XX]

Colorado Resource Advisory Council Meeting

AGENCY: Bureau of Land Management, Interior.

ACTION: Notice: Joint meeting of the Front Range, Northwest, and Southwest Resource Advisory Councils.

SUMMARY: The next meeting of the three Colorado Resource Advisory Councils will be held on Wednesday, January 31, and Thursday, February 1, 2001, at the Sheraton Denver West Hotel, 360 Union Boulevard, Lakewood, Colorado.

DATES: The joint meeting will be held Wednesday, January 31, and Thursday, February 1, 2001.

ADDRESSES: For further information on the joint meeting, contact Sheri Bell, Bureau of Land Management (BLM), 2850 Youngfield Street, Lakewood, Colorado; Telephone (303) 239-3670. For information on the Southwest RAC, contact Roger Alexander, Bureau of Land Management (BLM) at (970) 240-5335. For information on the northwest RAC, contact Lynn Barclay at (970) 826-5096. For information on the Front Range RAC, contact Ken Smith at (719) 269-8553.

SUPPLEMENTARY INFORMATION: The three Colorado Resource Advisory Councils (RAC) will meet on January 31 and February 1, 2001, at the Sheraton Denver West Hotel, Lakewood, Colorado. The meeting will start at 1 p.m. on Wednesday, January 31, ending at 4:30 p.m. that same day. The meeting will reconvene Thursday, February 1 at 8 a.m., ending at approximately 12 noon. Discussion will include fire management, off-highway vehicles, recreation guidelines and processes for coordinating multi-council efforts. In addition, several topics of general interest will be presented to the councils by guest speakers. Time will be made available for the RACs to meet individually, if needed, at the end of the joint meeting.

The meeting is open to the public. Interested persons may make oral statements at the meetings or submit written statements at the meeting. Time for public comment will be provided at 4 p.m., Wednesday, January 31, 2001. Per-person time limits for oral statements may be set to allow all interested persons an opportunity to speak.

Summary minutes of council meetings are maintained at the Bureau of Land Management Offices in Craig, Grand Junction, Montrose, and Canon City, Colorado. They are available for public inspection and reproduction during regular business hours within thirty (30) days following the meeting.

Dated: December 22, 2000.
Duane Johnson,
Acting Little Snake Field Manager.

[FR Doc. 00-33332 Filed 12-28-00; 8:45 am]

BILLING CODE 4310-JB-M